DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection in support of the program for Research on Rural Cooperative Opportunities and Problems.

DATES: Comments on this notice must be received by December 19, 2003 to be assured of consideration.

FOR FURTHER INFORMATION CONTACT: Thomas H. Stafford, Director, Cooperative Marketing Division, Rural Business-Cooperative Service, U.S. Department of Agriculture (USDA), STOP 3252, 1400 Independence Avenue, SW., Washington, DC 20250-3252, Telephone (202) 690-0368, Fax (202) 690-2723 or send an e-mail message to thomas.stafford@usda.gov.

SUPPLEMENTARY INFORMATION: Title: Research on Rural Cooperative Opportunities and Problems.

OMB Number: 0575-0028.

Expiration Date of Approval: February 29, 2004.

Type of Request: Intent to extend and revise a currently approved information collection.

Abstract: The mission of Rural Business-Cooperative Service, USDA (RBS) is to improve the quality of life in rural America by financing community facilities and businesses, providing technical assistance and creating effective strategies for rural development. One of RBS's direct roles is in providing knowledge to improve the effectiveness and performance of farmer cooperative businesses.

This information collection is for the purpose of responding to a solicitation for proposals to conduct research through cooperative agreements. Research proposals are to be on critical issues vital to the development and sustainability of user-owned cooperatives as a means of improving the quality of life in America's rural communities. The availability of funds will be announced on an annual basis. The announcement will seek proposals from institutions of higher education and nonprofit organizations. The funds will be awarded on a competitive basis using specific selection criteria.

Estimate of Burden: Public reporting burden for this collection of information is estimated to range from 10 minutes to 15 hours per response.

Respondents: Not-for-profit institutions and institutions of higher education.

Estimated Number of Respondents: 50.

Estimated Number of Responses per Respondent: 5.

Estimated Number of Responses: 248.

Estimated Total Annual Burden on Respondents: 1,339.

Copies of this information collection can be obtained from Renita Bolden, Regulations and Paperwork Management Branch, at (202) 692-0035.

Comments

Comments are invited on: (a) Whether the proposed collection of information is necessary for the proper performance of the functions of RBS, including whether the information will have practical utility; (b) the accuracy of RBS's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, U.S. Department of Agriculture, Rural Development, STOP 0742, 1400 Independence Ave. SW., Washington, DC 20250. All responses to this notice will be summarized and included in the request for OMB approval. All comments will also become a matter of public record.

Dated: October 8, 2003.
Peter J. Thomas,
Acting Administrator, Rural Business—Cooperative Service.

[FR Doc. 03-26417 Filed 10-17-03; 8:45 am]

BILLING CODE 3410-XY-P